DEPARTMENT OF TRANSPORTATION

Maritime Administration

[Docket Number: 2008 0087]

Reports, Forms and Recordkeeping Requirements; Agency Information Collection Activity Under OMB Review

AGENCY: Maritime Administration, DOT.

ACTION: Notice and request for comments.

SUMMARY: In compliance with the Paperwork Reduction Act of 1995, this notice announces that the Information Collection abstracted below has been forwarded to the Office of Management and Budget (OMB) for review and approval. The nature of the information collection is described as well as its expected burden. The Federal Register Notice with a 60-day comment period soliciting comments on the following collection of information was published on March 21, 2008. No comments were received.

DATES: Comments must be submitted on or before October 17, 2008.

FOR FURTHER INFORMATION CONTACT: Jean McKeever, Maritime Administration, 1200 New Jersey Avenue, SE., Washington, DC 20590. Telephone: (202) 366-5737; or e-mail: jean.mckeever@dot.gov. Copies of this collection also can be obtained from that office.

SUPPLEMENTARY INFORMATION:

Maritime Administration (MARAD)

Title: Application for Construction Reserve Fund and Annual Statements.

OMB Control No.: 2133-0032.

Type of Request: Extension of currently approved collection.

Affective Public: Owners or operators in the domestic or foreign commerce.

Forms: None.

Abstract: This information collection consists of an application required for all citizens who own and operate vessels in the U.S. foreign or domestic commerce and desire tax benefits under the Construction Reserve Fund (CRF) program. The annual statement sets forth a detailed analysis of the status of the CRF when each tax return is filed.

Annual Estimated Burden Hours: 153 hours.

Addressee: Send comments to the Office of Information and Regulatory Affairs, Office of Management and Budget, 725 17th Street, NW., Washington, DC 20503, Attention: MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect, if OMB receives it within 30 days of publication.

Dated: September 11, 2008.
By the Order of the Maritime Administrator.
Leonard Sutter,
Secretary, Maritime Administration.

[FR Doc. E8-21697 Filed 9-16-08; 8:45 am]

BILLING CODE 4910-81-P